DEPARTMENT OF HEALTH AND HUMAN SERVICES

Administration on Aging

Supplemental Funding for the Senior Medicare Patrol (SMP) Program

ACTION: Notice of intent to provide supplemental funding to the existing cooperative agreement (90NP0001) with the Administration on Aging.

SUMMARY: The Administration on Aging is announcing the intent to provide supplemental grant funds for the support of the Senior Medicare Patrol (SMP) program. The goal of this supplemental grant funding is to address the increased need of SMP project grantees for technical assistance and support from the National Consumer Protection Technical Resource Center (the Center). This need has been generated by CMS program expansion grants which have recently doubled the size of the SMP program.

Funding Opportunity Title/Program Name: National Consumer Protection Technical Resource Center

Catalog of Federal Domestic Assistance (CFDA) Number: 93.048 Discretionary Projects.

I. Award Information

A. Intended Recipient: Hawkeye Valley Area Agency on Aging, Inc.

B. Purpose of the Award: Supplemental funding to provide expanded support for the SMP program network.

C. Amount of the Award: $178,000.

D. Project Period: September 1, 2011-August 31, 2012.

II. Justification for the Exception to Competition

AoA has awarded the National Consumer Protection Technical Resource Center (the Center) a cooperative agreement through the competitive awards process to provide technical assistance, training, and support to the 54 SMP program grantees on a nationwide basis. Through this cooperative agreement, the Center develops the tools, materials, website, expertise, resources and training activities to assist SMP projects in fulfilling their mission of educating seniors to prevent healthcare fraud. Starting in September 2010, the Centers for Medicare and Medicaid Services (CMS) provided additional funding to double the size of the SMP program. The SMP program expansion has resulted in unanticipated additional requirements and needs for technical assistance and support for SMP projects from the Center. In particular the need for enhanced and improved collection of SMP outcomes, including new data elements within the SMART FACTS system, has been generated by SMP expansion. Additional requirements for Center support of the SMP volunteer program have also been generated by the program expansion and capacity building initiative. Expanded funding is expected to greatly increase the SMP projects' requests for technical assistance and support from the Center. Supplemental funding is necessary to ensure the Center can continue to fulfill its technical assistance and support role in a timely and effective manner to meet the increased needs of the expanded SMP program.

III. Agency Contact

Direct inquiries regarding programmatic issues to U.S. Department of Health and Human Services, Administration on Aging, Office of Elder Rights, Washington, DC 20201; telephone: Barbara Dieker (202) 357-0139; e-mail Barbara.Dieker@aoa.hhs.gov.

Dated: July 7, 2011.
Kathy Greenlee,
Assistant Secretary for Aging.

[FR Doc. 2011-17579 Filed 7-12-11; 8:45 am]

BILLING CODE 4154-01-P